DEPARTMENT OF ENERGY

Federal Energy Regulatory Commission

[Project No. 10198-031]

City of Pelican, Pelican Utility District; Notice of Intent To File License Application, Filing of Pre-Application Document, Approving Use of the Traditional Licensing Process

a. Type of Filing: Notice of Intent to File License Application and Request to Use the Traditional Licensing Process.

b. Project No.: 10198-031.

c. Date Filed: September 27, 2021 (Notice of Intent); November 12, 2021 (Pre-Application Document and Request to Use the TLP).

d. Submitted By: City of Pelican, Pelican Utility District.

e. Name of Project: Pelican Hydroelectric Project.

f. Location: On the Pelican Creek in the City of Pelican, Alaska. No federal lands are occupied by the project.

g. Filed Pursuant to: 18 CFR 5.3 of the Commission's regulations.

h. Potential Applicant Contact: Patricia Phillips, Mayor, City of Pelican, Box 737 Pelican, AK 99832; (907) 735-2202; mayorphillips@pelicancity.org.

i. FERC Contact: Ingrid Brofman at (202) 502-8347; or email at ingrid.brofman@ferc.gov.

j. Pelican Utility District filed its request to use the Traditional Licensing Process on November 12, 2021. Pelican Utility District provided public notice of its request on November 14, 2021. In a letter dated December 20, 2021, the Director of the Division of Hydropower Licensing approved Pelican Utility District's request to use the Traditional Licensing Process.

k. With this notice, we are initiating informal consultation with the U.S. Fish and Wildlife Service and NOAA Fisheries under section 7 of the Endangered Species Act and the joint agency regulations thereunder at 50 CFR, Part 402; and NOAA Fisheries under section 305(b) of the Magnuson-Stevens Fishery Conservation and Management Act and implementing regulations at 50 CFR 600.920. We are also initiating consultation with the Alaska State Historic Preservation Officer, as required by section 106, National Historic Preservation Act, and the implementing regulations of the Advisory Council on Historic Preservation at 36 CFR 800.2.

l. With this notice, we are designating the City of Pelican, Pelican Utility District as the Commission's non-federal representative for carrying out informal consultation pursuant to section 7 of the Endangered Species Act and section 305(b) of the Magnuson-Stevens Fishery Conservation and Management Act; and consultation pursuant to section 106 of the National Historic Preservation Act.

m. Pelican Utility District filed a Pre-Application Document (PAD; including a proposed process plan and schedule) with the Commission, pursuant to 18 CFR 5.6 of the Commission's regulations.

n. A copy of the PAD may be viewed and/or printed on the Commission's website (http://www.ferc.gov), using the “eLibrary” link. Enter the docket number, excluding the last three digits in the docket number field to access the document. For assistance, contact FERC Online Support at FERCOnlineSupport@ferc.gov, (866) 208-3676 (toll free), or (202) 502-8659 (TTY).

o. The licensee states its unequivocal intent to submit an application for a new license for Project No. 10198. Pursuant to 18 CFR 16.8, 16.9, and 16.10, each application for a new license and any competing license applications must be filed with the Commission at least 24 months prior to the expiration of the existing license. All applications for license for this project must be filed by September 16, 2024.

p. Register online at http://www.ferc.gov/docs-filing/esubscription.asp to be notified via email of new filing and issuances related to this or other pending projects. For assistance, contact FERC Online Support.

Kimberly D. Bose,
Secretary.

[FR Doc. 2021-28029 Filed 12-23-21; 8:45 am]

BILLING CODE 6717-01-P